DEPARTMENT OF EDUCATION

[Docket No.: ED-2024-SCC-0112]

Agency Information Collection Activities; Submission to the Office of Management and Budget for Review and Approval; Comment Request; Consolidated Annual Report (CAR) for the Carl D. Perkins Career and Technical Education Act of 2006

AGENCY: Office of Career, Technical, and Adult Education (OCTAE), Department of Education (ED).

ACTION: Notice.

SUMMARY: In accordance with the Paperwork Reduction Act (PRA) of 1995, the Department is proposing a revision of a currently approved information collection request (ICR).

DATES: Interested persons are invited to submit comments on or before January 2, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Braden Goetz, (202) 245-7405.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Consolidated Annual Report (CAR) for the Carl D. Perkins Career and Technical Education Act of 2006

OMB Control Number: 1830-0569.

Type of Review: Revision of a currently approved ICR.

Respondents/Affected Public: State, Local, and Tribal Governments.

Total Estimated Number of Annual Responses: 54.

Total Estimated Number of Annual Burden Hours: 13,122.

Abstract: This information collection is used by the U.S. Department of Education (Department) to gather annual performance and financial data from eligible agencies under the Carl D. Perkins Career and Technical Education Act of 2006. On August 30, 2024, the Department published for public comment, for a period of 60 days, a proposed request to extend this ICR for nine months to enable eligible agencies to meet their annual reporting requirements for Fiscal Year (FY) 2023. On September 11, 2024, the Department published for public comment, for a period of 60 days, a proposed revision of this ICR for which three-year approval was requested so that eligible agencies could meet their reporting requirements for FYs 2024 through 2026. On September 23, 2024, ED corrected an error in the publication of the proposed revised instrument for the CAR and posted the correct version. Due this error, on October 15, 2024, ED extended the public comment period on the CAR for two weeks, to November 26, 2024. The Department is now proposing a consolidated information collection request that incorporates the extension for FY 2023 reporting that was published on August 30, 2024, and the proposed revision for FYs 2024 through 2026 reporting that was published on September 11, 2024.

This information collection would extend current reporting requirements through FY 2025 and make revisions to these requirements for FY 2026. The proposed revisions would provide data specifications for the numerators and denominators used to calculate the performance indicators so that they are measured in a manner that is consistent with the law, collect data on participants in the middle grades to the extent such data are available, and collect data on the education and employment outcomes of CTE concentrators who have exited secondary education or who have completed a postsecondary program that is disaggregated by placement type, to the extent these data available. The proposed ICR also includes narrative questions about different aspects of an eligible agency's implementation of the law.

Dated: November 27, 2024.
Juliana Pearson,
PRA Coordinator, Strategic Collections and Clearance, Governance and Strategy Division, Office of Chief Data Officer, Office of Planning, Evaluation and Policy Development.

[FR Doc. 2024-28326 Filed 12-2-24; 8:45 am]

BILLING CODE 4000-01-P